DEPARTMENT OF ENERGY

Federal Energy Regulatory Commission

Combined Notice of Filings #1

Take notice that the Commission received the following electric corporate filings:

Docket Numbers: EC19-28-000.

Applicants: Homer City Generation, L.P.

Description: Application for Authorization Under Section 203 of the Federal Power Act, et al. of Homer City Generation, L.P.

Filed Date: 11/21/18.

Accession Number: 20181121-5157.

Comments Due: 5 p.m. ET 12/12/18.

Docket Numbers: EC19-29-000.

Applicants: SRIV Partnership LLC, NJR Clean Energy Ventures II Corporation, Alexander Wind Farm, LLC, Ringer Hill Wind, LLC, Carroll Area Wind Farm, LLC, Medicine Bow Wind, LLC.

Description: Application for Authorization Under Section 203 of the Federal Power Act, et al. of SRIV Partnership LLC.

Filed Date: 11/21/18.

Accession Number: 20181121-5162.

Comments Due: 5 p.m. ET 12/12/18.

Take notice that the Commission received the following exempt wholesale generator filings:

Docket Numbers: EG19-25-000.

Applicants: Calpine Gilroy Cogen, L.P.

Description: Notice of Self-Certification of Exempt Wholesale Generator Status.

Filed Date: 11/26/18.

Accession Number: 20181126-5068.

Comments Due: 5 p.m. ET 12/17/18.

Take notice that the Commission received the following electric rate filings:

Docket Numbers: ER10-2718-032; ER10-2719-032.

Applicants: Cogen Technologies Linden Venture, L.P., East Coast Power Linden Holding, L.L.C.

Description: Notice of Non-Material Change in Status of Cogen Technologies Linden Venture, L.P., et al.

Filed Date: 11/26/18.

Accession Number: 20181126-5041.

Comments Due: 5 p.m. ET 12/17/18.

Docket Numbers: ER11-3859-017; ER14-1699-007; ER17-436-005; ER17-437-008.

Applicants: Dighton Power, LLC, Milford Power, LLC, Marcus Hook Energy, L.P., Marcus Hook 50, L.P.

Description: Notice of change in status of the SEG MBR Entities, et al.

Filed Date: 11/21/18.

Accession Number: 20181121-5160.

Comments Due: 5 p.m. ET 12/12/18.

Docket Numbers: ER19-294-000.

Applicants: GE Oleander LLC.

Description: Amendment to November 6, 2018 GE Oleander LLC tariff filing.

Filed Date: 11/21/18.

Accession Number: 20181121-5156.

Comments Due: 5 p.m. ET 12/5/18.

Docket Numbers: ER19-392-000.

Applicants: Southwest Power Pool, Inc.

Description: § 205(d) Rate Filing: 1887R8 Westar Energy, Inc. NITSA NOA to be effective 11/1/2018.

Filed Date: 11/26/18.

Accession Number: 20181126-5026.

Comments Due: 5 p.m. ET 12/17/18.

Docket Numbers: ER19-393-000.

Applicants: Southwest Power Pool, Inc.

Description: § 205(d) Rate Filing: 1888R8 Westar Energy, Inc. NITSA NOA to be effective 11/1/2018.

Filed Date: 11/26/18.

Accession Number: 20181126-5032.

Comments Due: 5 p.m. ET 12/17/18.

Docket Numbers: ER19-394-000.

Applicants: Southwest Power Pool, Inc.

Applicants: § 205(d) Rate Filing: 1890R8 Westar Energy, Inc. NITSA NOA to be effective 11/1/2018.

Filed Date: 11/26/18.

Accession Number: 20181126-5033.

Comments Due: 5 p.m. ET 12/17/18.

Docket Numbers: ER19-395-000.

Applicants: AEP Texas Inc.

Description: § 205(d) Rate Filing: AEPTX-Rayos Del Sol Solar Project Interconnection Agreement to be effective 11/6/2018.

Filed Date: 11/26/18.

Accession Number: 20181126-5054.

Comments Due: 5 p.m. ET 12/17/18.

Docket Numbers: ER19-396-000.

Applicants: AES Shady Point, LLC.

Description: Baseline eTariff Filing: AES Shady Point MBR Application to be effective 11/27/2018.

Filed Date: 11/26/18.

Accession Number: 20181126-5055.

Comments Due: 5 p.m. ET 12/17/18.

Take notice that the Commission received the following qualifying facility filings:

Docket Numbers: QF18-452-000.

Applicants: North American Natural Resources, Inc.

Description: Supplement to November 20, 2018 Refund Report of North American Natural Resources, Inc.

Filed Date: 11/26/18.

Accession Number: 20181126-5063.

Comments Due: 5 p.m. ET 11/26/18.

Take notice that the Commission received the following PURPA 210(m)(3) filings:

Docket Numbers: QM19-1-000.

Applicants: Missouri Basin Municipal Power Agency.

Description: Application of Missouri Basin Municipal Power Agency to Terminate Mandatory PURPA Purchase Obligation.

Filed Date: 11/21/18.

Accession Number: 20181121-5155.

Comments Due: 5 p.m. ET 12/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2018.
Nathaniel J. Davis, Sr.,
Deputy Secretary.

[FR Doc. 2018-26055 Filed 11-29-18; 8:45 am]

BILLING CODE 6717-01-P